DEPARTMENT OF TRANSPORTATION

Federal Aviation Administration

RTCA Special Committee 196: Night Vision Goggle (NVG) Appliances and Equipment

AGENCY: Federal Aviation Administration (FAA), DOT.

ACTION: Notice of RTCA Special Committee 196 meeting.

SUMMARY: The FAA is issuing this notice to advise the public of a meeting of RTCA Special Committee 199: Night Vision Goggle (NVG) Appliances and Equipment.

DATES: The meeting will be held July 11-13, 2001, starting at 9 .am.

ADDRESSES: The meeting will be held at RTCA, Inc., 1140 Connecticut Avenue, NW., Suite 1020, Washington, DC 20036.

FOR FURTHER INFORMATION CONTACT: RTCA Secretariat, 1140 Connecticut Avenue, NW., Washington, DC, 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 196 meeting. The agenda will include:

July 11, 12, 13

• Opening Session (Welcome and Introductory Remarks, Agenda Overview, Approve Minutes of Previous Meeting, Action Item Status Review).

• Overview of SC-196 Working Group Activities.

—Operational Concept/Requirements

—Minimum Operational Performance Standard (MOPS)—Night Vision Imaging Systems Equipment

—Working Group 5 (Training Guidelines/Considerations)

• MOPS Final Comments and Review; MOPS Program Management Committee Comment/Review Process

• Open Issue List Review

• Closing Session (Other Business, Training Working Group and Document Goals, Establish Agenda for Next Meeting, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 13, 2001.
Janice L. Peters,
FAA Special Assistant, RTCA Advisory Committee.

[FR Doc. 01-15491 Filed 6-19-01; 8:45 am]

BILLING CODE 4910-13-M